DEPARTMENT OF TRANSPORTATION

Federal Aviation Administration

14 CFR Part 39

[Docket No. FAA-2011-1321; Directorate Identifier 2011-NM-045-AD; Amendment 39-17047; AD 2012-09-12]

RIN 2120-AA64

Airworthiness Directives; Airbus Airplanes

AGENCY: Federal Aviation Administration (FAA), Department of Transportation (DOT).

ACTION: Final rule.

SUMMARY: We are superseding an existing airworthiness directive (AD) for certain Airbus Model A319-111, -112, -113, -114, -115, -131, -132, and -133 airplanes; Model A320-111, -211, -212, -214, -231, -232, and -233 airplanes; and Model A321-111, -112, and -131 airplanes; equipped with an additional center tank (ACT). That AD currently requires identifying the part number of the ACT and, for certain ACTs, replacing the outer ACT manhole cover and seal. This new AD requires modifying certain ACTs by replacing the manhole seal with a new seal; adding certain ACT equipped airplanes to the applicability; and removing Model A320-111 airplanes from the applicability. This AD was prompted by reports that the modification required by the current AD was not fully effective. We are issuing this AD to prevent fuel and/or vapor leakage, which could result in a combustible fuel vapor/air mixture in the cargo compartment, and consequent fire risk.

DATES: This AD becomes effective June 21, 2012.

The Director of the Federal Register approved the incorporation by reference of a certain publication listed in this AD as of June 21, 2012.

The Director of the Federal Register approved the incorporation by reference of a certain other publication listed in this AD as of December 19, 2005 (70 FR 69067, November 14, 2005).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 to include an AD that would apply to the specified products. That NPRM was published in the Federal Register on December 15, 2011 (76 FR 77934), and proposed to supersede AD 2005-23-02, Amendment 39-14360 (70 FR 69067, November 14, 2005). That NPRM proposed to correct an unsafe condition for the specified products. The MCAI states:

Following an automatic ACT fuel transfer failure on an A319, it was noted that the ACT manhole cover seals were extruded, allowing leakage.

This condition, if not corrected, can lead to fuel and/or vapour leakage, possibly resulting in a combustible fuel vapour/air mixture in the cargo compartment, which would constitute a fire risk.

DGAC France AD F-2004-038 [which corresponds to FAA AD 2005-23-02] was issued to require the replacement of the ACT manhole cover and its seal in accordance with SB A320-28-1105, but this modification has proved not to be fully effective. Therefore, it is necessary to replace the seal material and to change the installation process in order to prevent such seal deformation and possibility of leakage.

For the reasons described above, this [EASA] AD supersedes DGAC France AD F-2004-038 (EASA approval 2004-2110) and requires the replacement of the existing manhole seal with a new seal.

This AD also adds certain ACT equipped airplanes, produced after AD 2005-23-02, Amendment 39-14360 (70 FR 69067, November 14, 2005) was issued, to the applicability. This AD also removes Model A320-111 airplanes from the applicability because there are no operational Model A320-111 airplanes in the United States and Airbus intends to remove this model from the EASA Type Certificate Data Sheet (TCDS). You may obtain further information by examining the MCAI in the AD docket.

Comments

We gave the public the opportunity to participate in developing this AD. We have considered the comments received.

Support for NPRM (76 FR 77934, December 15, 2011)

Thomas Hayden Barnes stated he supports efforts to ensure airline safety and the NPRM (76 FR 77934, December 15, 2011) appears reasonable.

US Airways stated it supports the intent of the NPRM (76 FR 77934, December 15, 2011).

Request to Revise Cost Estimate

US Airways stated that accomplishment of the modification specified in Airbus Mandatory Service Bulletin A320-28-1162, Revision 02, dated December 18, 2009, will take 14.5 man-hours per fuel tank. We infer that the commenter wants the preamble section of the final rule changed to reflect 14.5 work-hours per fuel tank.

We agree. The total work-hours for accessing, modifying a fuel tank, and closing are estimated at 14.5 work-hours per fuel tank. We have changed the cost section in the final rule to reflect an estimate of 15 work-hours per fuel tank to comply with the new basic requirements of this AD. We have also revised the estimated cost of the AD on U.S. operators to be $919,275 (based on one fuel tank per airplane), or $1,275 per fuel tank.

Request To Revise the Parts Cost Statement

US Airways requested we revise the parts cost statement of the NPRM (76 FR 77934, December 15, 2011) to include the parts cost for the actions required by AD 2005-23-02, Amendment 39-14360 (70 FR 69067, November 14, 2005) and that are retained in the NPRM. The commenter stated that the parts costs are not covered under warranty.

We partially agree. Airbus Service Bulletin A320-28-1105, Revision 02, dated March 11, 2005, states that Airbus will provide the material at no charge for orders placed before December 31, 2003. Therefore, we agree that some operators may have had to pay for parts. We do not agree to add parts costs to this final rule, but we have added a statement to the cost section for actions that are required by AD 2005-23-02, Amendment 39-14360 (70 FR 69067, November 14, 2005) and retained in this AD. Where the service information lists required parts costs that are covered under warranty, we have assumed that there will be no charge for these parts. As we do not control warranty coverage for affected parties, some parties may incur costs higher than estimated here.

Request To Allow Seal Replacement Without ACT Removal

US Airways requested the NPRM (76 FR 77934, December 15, 2011) be changed to allow installation of the seals without removing the ACTs from the airplane as specified in AD 2005-23-02, Amendment 39-14360 (70 FR 69067, November 14, 2005). The commenter stated that in order to replace the seal on ACT number 2, only the integrated impact wall needs to be removed; and for seal replacement on ACT number 1, the ACT number 2 has to be rolled rearward approximately two feet to provide access to ACT number 1, which can then have its seal replaced without ACT removal. The commenter provided references to its internal documentation to support its request.

We disagree. US Airways request does not substantiate the detailed procedures needed for deviation from the Airbus recommended actions specified in Airbus Mandatory Service Bulletin A320-28-1162, Revision 02, dated December 18, 2009, for installation of seals on the ACT number 1 and ACT number 2. In addition, Airbus foresees a potential safety hazard for mechanics if seals are installed without removing the ACTs due to inadequate ventilation and high concentration of fuel vapor.

Under the provisions of paragraph (l) of this AD, we will consider requests for approval of alternate method of compliance (AMOC) if sufficient data are submitted to substantiate that deviation from the specified procedures in Airbus Mandatory Service Bulletin A320-28-1162, Revision 02, dated December 18, 2009, would provide an acceptable level of safety. We have not changed the AD in this regard.

Explanation of Additional Changes Made to the AD

We have revised the heading for paragraph (k) of this AD and the wording in paragraphs (h) and (k) of this AD; these changes have not changed the intent of those paragraphs.

Conclusion

We reviewed the available data, including the comments received, and determined that air safety and the public interest require adopting the AD as proposed, except for minor editorial changes and/or changes to the cost section that add the accessing and closing costs. We have determined that these minor changes:

• Are consistent with the intent that was proposed in the NPRM (76 FR 77934, December 15, 2011) for correcting the unsafe condition; and

• Do not add any additional burden upon the public than was already proposed in the NPRM (76 FR 77934, December 15, 2011).

Costs of Compliance

Based on the service information, we estimate that this AD affects 721 products of U.S. registry.

The actions that are required by AD 2005-23-02, Amendment 39-14360 (70 FR 69067, November 14, 2005) and retained in this AD take about 1 work-hour per product, at an average labor rate of $85 per work hour. Required parts cost about $0 per product. Where the service information lists required parts costs that are covered under warranty, we have assumed that there will be no charge for these parts. As we do not control warranty coverage for affected parties, some parties may incur costs higher than estimated here. Based on these figures, the estimated cost of the currently required actions is $85 per product.

We estimate that it would take about 15 work-hours per fuel tank to comply with the new basic requirements of this AD. The average labor rate is $85 per work-hour. Where the service information lists required parts costs that are covered under warranty, we have assumed that there will be no charge for these parts. As we do not control warranty coverage for affected parties, some parties may incur costs higher than estimated here. Based on these figures, we estimate the cost of the AD on U.S. operators to be $919,275, or $1,275 per fuel tank.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 77934, December 15, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-23-02, Amendment 39-14360 (70 FR 69067, November 14, 2005), and adding the following new AD:

2012-09-12 Airbus: Amendment 39-17047. Docket No. FAA-2011-1321; Directorate Identifier 2011-NM-045-AD.

(a) Effective Date

This airworthiness directive (AD) becomes effective June 21, 2012.

(b) Affected ADs

This AD supersedes AD 2005-23-02, Amendment 39-14360 (70 FR 69067, November 14, 2005).

(c) Applicability

This AD applies to Airbus airplanes listed in paragraphs (c)(1), (c)(2), and (c)(3) of this AD; certificated in any category; all serial numbers; if equipped with one or more additional center tank(s) (ACT) with a part number (P/N) listed in table 1 of this AD. This AD does not apply to airplanes already having received Airbus modification 38036 in production.

(1) Model A319-111, -112, -113, -114, -115, -131, -132, and -133 airplanes.

(2) Model A320-211, -212, -214, -231, -232, and -233 airplanes.

(3) Model A321-111, -112, -131, -211, -212, -213, -231, and -232 airplanes.

Table 1—Affected ACT Part Numbers for Applicability
D2827091100000 | D2827105100200 | D2827105300600 | D2827105500400
D2827091100200 | D2827105100400 | D2827105300800 | D2827105500600
D2827091100400 | D2827105100600 | D2827105400000 | D2827105500800
D2827091100600 | D2827105100800 | D2827105400200 | D2827105600000
D2827091100800 | D2827105200000 | D2827105400400 | D2827105600200
D2827091101000 | D2827105200200 | D2827105400600 | D2827105600400
D2827091300000 | D2827105200400 | D2827105400800 | D2827105600600
D2827091300200 | D2827105200600 | D2827105401000 | D2827105600800
D2827091300400 | D2827105200800 | D2827105401200 | D2827107500000
D2827091300600 | D2827105300000 | D2827105401400 | D2827107500200
D2827091300800 | D2827105300200 | D2827105500000 | D2827107500400
D2827105100000 | D2827105300400 | D2827105500200 | D2827107500600

(d) Subject

Air Transport Association (ATA) of America Code 28, Fuel.

(e) Reason

This AD was prompted by reports that the modification required by AD 2005-23-02, Amendment 39-14360 (70 FR 69067, November 14, 2005), was not fully effective. We are issuing this AD to prevent fuel and/or vapor leakage, which could result in a combustible fuel vapor/air mixture in the cargo compartment, and consequent fire risk.

(f) Compliance

You are responsible for having the actions required by this AD performed within the compliance times specified, unless the actions have already been done.

(g) Retained Determination of Part Number With New Sealing Procedures

This paragraph restates the requirements of paragraph (f) of AD 2005-23-02, Amendment 39-14350 (70 FR 69067, November 14, 2005), with new sealing procedures. Within 30 days (for Model A319-111, -112, -113, -114, -115, -131, -132, and -133 airplanes) or 12 months (for Model A320-211, -212, -214, -231, -232, and -233 airplanes; and Model A321-111, -112, and -131 airplanes) after December 19, 2005 (the effective date of AD 2005-23-02, Amendment 39-14360 (70 FR 69067, November 14, 2005): Determine whether the P/N of each ACT installed on the airplane is included in table 2 of this AD. If no ACT installed on the airplane has a P/N included in table 2 of this AD, no further work is required by this paragraph.

Table 2—Affected ACT P/Ns for AD 2005-23-02, Amendment 39-14360
[70 FR 69067, November 14, 2005]
D2827091100000 | D2827105100200 | D2827105300400 | D2827105500200
D2827091100200 | D2827105100400 | D2827105400000 | D2827105500400
D2827091100600 | D2827105200000 | D2827105400200 | D2827105600000
D2827091300000 | D2827105200200 | D2827105400400 | D2827105600200
D2827091300200 | D2827105200400 | D2827105400600 | D2827105600400
D2827091300400 | D2827105300000 | D2827105400800 | D2827107500000
D2827105100000 | D2827105300200 | D2827105500000 | D2827107500200

(h) Retained Manhole Cover/Seal Replacement

This paragraph restates the requirements of paragraph (g) of AD 2005-23-02, Amendment 39-14350 (70 FR 69067, November 14, 2005). Within 30 days (for Model A319-111, -112, -113, -114, -115, -131, -132, and -133 airplanes) or 12 months (for Model A320-211, -212, -214, -231, -232, and -233 airplanes; and Model A321-111, -112, and -131 airplanes) after December 19, 2005 (the effective date of AD 2005-23-02, Amendment 39-14360 (70 FR 69067, November 14, 2005)): For each ACT P/N listed in table 2 of this AD: Before further flight, replace the outer ACT manhole cover with a reinforced manhole cover and replace the outer manhole cover seal with a new seal, in accordance with the Accomplishment Instructions of Airbus Service Bulletin A320-28-1105, Revision 02, dated March 11, 2005. This paragraph provides credit for the replacements required by this paragraph if the replacements were performed before December 19, 2005, using Airbus Service Bulletin A320-28-1105, Revision 01, dated March 18, 2003; and Airbus Service Bulletin A320-28-1105, dated October 22, 2002. As of the effective date of this AD, doing the manhole cover seal replacement required by paragraph (i) of this AD, terminates the manhole cover seal replacement required by this paragraph.

(i) ACT Modification

Within 3,000 flight cycles or 24 months, whichever occurs first after the effective date of this AD: Modify the affected ACT listed in table 1 of this AD by replacing the manhole seal, in accordance with the Accomplishment Instructions of Airbus Mandatory Service Bulletin A320-28-1162, Revision 02, dated December 18, 2009. Accomplishing the manhole cover sealing replacement specified in this paragraph terminates the manhole cover sealing replacement required in paragraph (h) of this AD.

(j) Parts Installation

As of the effective date of this AD, no person may install an ACT, having a part number is listed in table 1 of this AD, on any airplane unless it has been modified prior to its installation, in accordance with Airbus Mandatory Service Bulletin A320-28-1162, Revision 02, dated December 18, 2009.

(k) Credit for Previous Actions

This paragraph provides credit for the modification required by paragraph (i) of this AD, if the modification was performed before the effective date of this AD using Airbus Mandatory Service Bulletin A320-28-1162, dated February 6, 2008; or Revision 01, dated July 16, 2008.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI European Aviation Safety Agency (EASA) Airworthiness Directive 2010-0177, dated August 30, 2010; Airbus Mandatory Service Bulletin A320-28-1162, Revision 02, dated December 18, 2009; and Airbus Service Bulletin A320-28-1105, Revision 02, dated March 11, 2005; for related information.

(n) Material Incorporated by Reference

(1) You must use the following service information to do the actions required by this AD, unless the AD specifies otherwise. The Director of the Federal Register approved the incorporation by reference (IBR) of the following service information under 5 U.S.C. 552(a) and 1 CFR part 51 on the date specified.

(2) The following service information was approved for IBR as of the effective date of this AD:

(i) Airbus Mandatory Service Bulletin A320-28-1162, Revision 02, dated December 18, 2009.

(3) The following service information was approved for IBR on December 19, 2005 (70 FR 69067, November 14, 2005):

(i) Airbus Service Bulletin A320-28-1105, Revision 02, dated March 11, 2005.

(4) For Airbus service information identified in this AD, contact Airbus, Airworthiness Office—EAS, 1 Rond Point Maurice Bellonte, 31707 Blagnac Cedex, France; telephone +33 5 61 93 36 96; fax +33 5 61 93 44 51; email: account.airworth-eas@airbus.com; Internet http://www.airbus.com.

(5) You may review copies of the service information at the FAA, Transport Airplane Directorate, 1601 Lind Avenue SW., Renton, Washington. For information on the availability of this material at the FAA, call 425-227-1221.

(6) You may also review copies of the service information that is incorporated by reference at the National Archives and Records Administration (NARA). For information on the availability of this material at an NARA facility, call 202-741-6030, or go to http://www.archives.gov/federal_register/code_of_federal_regulations/ibr_locations.html.

Issued in Renton, Washington, on May 1, 2012.
Michael Kaszycki,
Acting Manager, Transport Airplane Directorate, Aircraft Certification Service.

[FR Doc. 2012-11490 Filed 5-16-12; 8:45 am]

BILLING CODE 4910-13-P